NATIONAL SCIENCE FOUNDATION

Advisory Committee for International Science & Engineering; Notice of Meeting

In accordance with Federal Advisory Committee Act (Pub. L. 92-463, as amended), the National Science Foundation announces the following meeting:

Name: Advisory Committee for International Science and Engineering (#25104).

Date/Time: April 25, 2011; 8:30 a.m. to 5 p.m. April 26, 2011; 8:30 a.m. to 12 p.m.

Place: National Science Foundation, 4201 Wilson Boulevard, Stafford II, Room 555, Arlington, VA.

Type of Meeting: OPEN.

Contact Person: Robert Webber, National Science Foundation, 4201 Wilson Boulevard, Arlington, VA 22230 (703) 292-7569.

If you are attending the meeting and need access to the NSF, please contact the individual listed above so your name may be added to the building access list.

Purpose of Meeting: To provide advice on the international programs and activities of the National Science Foundation.

Agenda

April 25, 2011

AM: Meet with NSF Director and Committee discussion.

PM: Update on Office of International Science and Engineering, Reports from Advisory Committee Working Groups.

April 26, 2011

AM: Globalization of Universities, Member Remarks.

Dated: April 5, 2011.
Susanne Bolton,
Committee Management Officer.

[FR Doc. 2011-8465 Filed 4-8-11; 8:45 am]

BILLING CODE 7555-01-P